DEPARTMENT OF VETERANS AFFAIRS

[OMB Control No. 2900-0113]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before September 21, 2006.

For Further Information or a Copy of the Submission Contact: Denise McLamb, Information Management Service (005G2), Department of Veterans Affairs, 810 Vermont Avenue, NW., Washington, DC 20420, (202) 565-8374 or Fax (202) 565-7045 or e-mail: denise.mclamb@mail.va.gov. Please refer to “OMB Control No. 2900-0113.” Send comments and recommendations concerning any aspect of the information collection to VA's OMB Desk Officer, OMB Human Resources and Housing Branch, New Executive Office Building, Room 10235, Washington, DC 20503, (202) 395-7316. Please refer to “OMB Control No. 2900-0564” in any correspondence.

SUPPLEMENTARY INFORMATION: Title: Application for Fee or Roster Personnel Designation, VA Form 26-6681.

OMB Control Number: 2900-0113.

Type of Review: Revision of a currently approved collection.

Abstract: Applicants complete VA Form 26-6681 to apply for a position as a designate fee appraiser or compliance inspector. VA will use the data collected to determine the applicant's experience in the real estate valuation field.

An agency may not conduct or sponsor, and a person is not required to respond to a collection of information unless it displays a currently valid OMB control number. The Federal Register Notice with a 60-day comment period soliciting comments on this collection of information was published on March 28, 2006, at page 15516-15517.

Affected Public: Individuals or households.

Estimated Annual Burden: 2,067 hours.

Estimated Average Burden Per Respondent: 30 minutes.

Frequency of Response: One-time.

Estimated Number of Respondents: 6,200.

Dated: August 7, 2006.
By direction of the Secretary.
Denise McLamb,
Program Analyst, Information Management Service.

[FR Doc. E6-13920 Filed 8-21-06; 8:45 am]

BILLING CODE 8320-01-P